DEPARTMENT OF COMMERCE

Foreign-Trade Zones Board

[Docket 16-2003]

Foreign-Trade Zone 31—Granite City, IL, Area; Application for Expansion

An application has been submitted to the Foreign-Trade Zones (FTZ) Board (the Board), by the Tri-City Regional Port District, grantee of Foreign-Trade Zone 31, requesting authority to expand its zone in the Granite City, Illinois, area, within/adjacent to the St. Louis, Missouri, Customs port of entry. The application was submitted pursuant to the provisions of the Foreign-Trade Zones Act, as amended (19 U.S.C. 81a-81u), and the regulations of the Board (15 CFR part 400). It was formally filed on March 14, 2003.

FTZ 31 was approved on September 6, 1977 (Board Order 122, 42 FR 46568, 9/16/77) and expanded on January 16, 1985 (Board Order 289, 50 FR 3371, 1/24/85). The zone project currently consists of the following sites in the Granite City area: Site 1 (47 acres, 2 parcels)—Tri-City Regional Port complex, 2801 Rock Road, Granite City; Site 2 (90,000 sq. ft.)—1603 State Street, Granite City; Site 3 (209,000 sq. ft.)—warehouse facility at 1100 Niedringhaus Avenue, Granite City; and, Site 4 (122,600 sq. ft.) with 47,600 sq. ft. located at 2000 Access Road and 75,000 sq. ft. located at 1000 Access Road, Madison.

The applicant is now requesting authority to expand the general-purpose zone to include three new sites in Madison County, Granite City and St. Clair County, Illinois: Proposed Site 5 (2,254 acres)—Gateway Commerce Center, intersection of 270 and Interstate 255, Madison County, IL; Proposed Site 6 (458 acres)—River's Edge Industrial Park (part of the former U.S. Army Charles Melvin Price Support Center), 1635 West First Street, Granite City, IL; and, Proposed Site 7 (3,851 acres)—MidAmerica Airport, adjacent to the Scott Air Force Base at the intersection of Interstate 64 and Route 4, St. Clair County, IL. The majority of Proposed Site 5 is owned by TriSTAR Business Communities or its affiliates. Proposed Site 6 is owned by the applicant and is a partially developed industrial park that is being converted from military use to commercial use. Proposed Site 7 is owned and operated by St. Clair County. This action will also formally delete Site 2 from the zone plan. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099—14th St. NW., Washington, DC 20005; or

2. Submissions via the U.S. Postal Service: Foreign-Trade Zones Board, U.S. Department of Commerce, FCB—Suite 4100W, 1401 Constitution Ave. NW., Washington, DC 20230.

The closing period for their receipt is May 23, 2003. Rebuttal comments in response to material submitted during the foregoing period may be submitted during the subsequent 15-day period (to June 9, 2003).

A copy of the application and accompanying exhibits will be available for public inspection at the Office of the Foreign-Trade Zones Board's Executive Secretary at the first address listed above, and at the Offices of the Tri-City Regional Port District, 1635 W. First Street, Granite City, Illinois 62040-1838.

Dated: March 14, 2003.
Dennis Puccinelli,
Executive Secretary.

[FR Doc. 03-6928 Filed 3-21-03; 8:45 am]

BILLING CODE 3510-DS-P